INTERNATIONAL BOUNDARY AND WATER COMMISSION, UNITED STATES AND MEXICO

United States Section; Notice of Availability of a Draft Environmental Assessment and Finding of No Significant Impact for Flood Control Improvements From International Dam to Riverside Diversion Dam, Within the Rio Grande Rectification Project, Located in El Paso County, TX

AGENCY: United States Section, International Boundary and Water Commission.

Proposed Action: Levee height improvements within an approximate 15-mile reach from International Dam to Riverside Diversion Dam in El Paso, El Paso County, Texas to meet the current Federal Emergency Management Agency (FEMA) freeboard requirements.

Report Designation: Environmental Assessment.

SUMMARY: The United States Section of the International Boundary and Water Commission (USIBWC) has prepared an Environmental Assessment (EA) for a proposed action to raise the levee system from International Dam to Riverside Diversion Dam, in El Paso County, Texas. The levee system under consideration for this EA, approximately 15-miles long, is located entirely within the city limits of El Paso, Texas.

This reach of levee system was recently identified as one of the priority areas within the Rio Grande Rectification Project for flood control improvements. The need for improvements to the levee system was determined by hydraulic modeling completed by the USIBWC in 2003. The USIBWC hydraulic study for this reach indicated that an increase in levee height would be required to meet design criteria for flood protection. An increase from 0.5 to 1.5 feet is anticipated for approximately 5.1 miles of levee. The increase in levee height would expand the levee footprint by lateral extension of the structure. Levee footprint increases in this reach will occur within the USIBWC right-of-way (ROW) and may extend primarily toward the riverside of the existing levee or to the landside given available ROW.

FEMA decertification of USIBWC levees in El Paso County, Texas has resulted in the need to rehabilitate the levees to FEMA criteria; draft Digital Flood Insurance Rate Maps will be issued in spring of 2007. The USIBWC plans on raising approximately 5.1 miles of USIBWC levees within the International Dam to Riverside Diversion Dam to meet the minimum 3 feet of freeboard criteria.

The Environmental Assessment assesses potential environmental impacts of the Proposed Action and the No Action Alternative. A Draft Finding of No Significant Impact was issued for the Proposed Action, including mitigation measures, based on a review of the facts and analyses contained in the Environmental Assessment. An environmental impact statement will not be prepared unless additional information which may affect this decision is brought to our attention within 30-days from the date of this Notice.

Availability: Copies of the Draft Environmental Assessment and Finding of No Significant Impact may be obtained by request from Mr. Daniel Borunda, 4171 North Mesa, Suite C-100, El Paso, Texas 79902, e-mail: danielborunda@ibwc.state.gov. Electronic copies may also be obtained from the USIBWC Home Page at http://www.ibwc.state.gov. Written comments will be accepted for 30-days following the date of this Notice.

Dated: April 5, 2007.
Susan Daniel,
General Counsel.

[FR Doc. E7-6827 Filed 4-11-07; 8:45 am]

BILLING CODE 7010-01-P